DEPARTMENT OF HEALTH AND HUMAN SERVICES

Health Resources and Services Administration

[Announcement Number: HRSA-04-077]

Maternal and Child Health Federal Set-Aside Program; Special Projects of Regional and National Significance; Community-Based Abstinence Education Project Grants (CBAE); CFDA #93.110

AGENCY: Health Resources and Services Administration, HHS.

ACTION: Notice of availability of funds.

SUMMARY: The Health Resources and Services Administration (HRSA) announces that approximately $33 million in fiscal year (FY) 2004 funds will be available for making competitive grants to provide abstinence education to adolescents, subject to the availability of appropriations. There are no cost sharing, matching or cost participation requirements of the program. Eligibility is open to public and private entities, including faith-based and community organizations, which develop and/or provide an abstinence program consistent with the definition of “abstinence education” in section 510 of the Social Security Act. In addition, the entity must agree not to provide a participating adolescent any other education regarding sexual conduct in the same setting. All awards will be made under the program authority of section 501(a)(2) of the Social Security Act, the Maternal and Child Health (MCH) Federal Set-Aside Program (42 U.S.C. 701(a)(2)) and will be administered by the Maternal and Child Health Bureau (MCHB), HRSA. HRSA will encourage collaboration from other Federal agencies that have an interest in abstinence education, such as the Administration for Children and Families (ACF) and the Office of Population Affairs (OPA). Contingent on the availability of funding, up to 70 three-year implementation grants, with annual awards ranging from $250,000 to $800,000, will be awarded. Projects may be located in any State, the District of Columbia, and United States territories, commonwealths, and possessions. However, to ensure that there is a more even geographic distribution of grantees, special consideration will be given to highly ranked applications in States that do not have a Federally-funded Special Projects of Regional and National Significance (SPRANS) Community-Based Abstinence Education grant.

This Federal Register announcement will appear on the HRSA Home Page at: http://www.hrsa.gov. Federal Register notices are found by following instructions at: www.gpoaccess.gov/fr/index.html.

DATES: Applicants for this program are requested to notify MCHB's Division of State and Community Health by December 31, 2003. Please note that a “notice of intent to submit an application” will be used as a mechanism to deliver technical assistance and to assist in the planning of the objective review; it is not a requirement of the application process. Notification can be made in one of three ways: telephone, 301-443-2204; fax, 301-443-9354; or mail, MCHB, HRSA; Division of State and Community Health; Parklawn Building, Room 18-31; 5600 Fishers Lane; Rockville, MD 20857. MCHB is sponsoring five, one-day pre-application workshops in December 2003 to assist potental applicants in preparing applications that address the requirements of the SPRANS Community-Based Abstinence Education Project Grant program, as described in the Application Guidance. Attendance at a pre-application workshop is not mandatory. The tentative dates and locations of the five workshops are as follows: Kansas City, December 16; San Diego, December 18; Atlanta, January 5; Boston, January 6; and Baltimore, January 9. Registration information and possible schedule changes for these workshops will be posted on the MCHB Homepage at www.mchb.hrsa.gov, and can be viewed at the logistics contractor's Web site at www.psava.com/abed. The deadline for receipt of applications is February 9, 2004. Applications will be considered “on time” if they are either received on or before the deadline date or postmarked or E marked on or before the deadline date and received in time for the Independent Review Committee review. In the event that questions arise about meeting the application due date, applications must have a legibly dated receipt from a commercial carrier or the U.S. Postal Service. Private metered postmarks will not be accepted as proof of timely mailing. Applications submitted electronically will be time/date stamped electronically, which will serve as receipt of submission. The projected award date is July 1, 2004.

Applications which do not meet the criteria above are considered late applications. HRSA shall notify each late applicant that its application will not be considered in the current competition.

ADDRESSES: To receive a complete application kit, applicants may contact the HRSA Grants Application Center at 1-877-477-2123 (1-877-HRSA-123) by telephone, or register on-line at: http://www.hrsa.gov, or by accessing http://www.hrsa.gov/g_order3.htm directly. This program uses the standard Form PHS 5161-1 (rev. 7/00) for applications (approved under OMB No. 0920-0428). Applicants must use the appropriate Catalog of Federal Domestic Assistance (CFDA) number when requesting application materials. The CFDA is a Government wide compendium of enumerated Federal programs, projects, services, and activities which provide assistance. The CFDA Number for the Community-Based Abstinence Education Project Grant Program is #93.110.

If applying on paper, the entire application may not exceed 80 pages in length, including the abstract, project and budget narratives, face page, attachments, any appendices and letters of commitment and support. Pages must be numbered consecutively. If applying on-line, the total size of all uploaded files may not exceed 10 MB. Applications that exceed the specified limits will be deemed non-compliant, and will be returned to the applicant without further consideration.

If you choose to submit a paper application, please send the original and two copies to: Grants Management Officer (MCHB), HRSA Grants Application Center, ATTN: Program Announcement No. HRSA-04-0777, The Legin Group, Inc., 901 Russell Avenue, Suite 450, Gaithersburg, Maryland 20879, telephone: 877-474-2345, E-mail: hrsagac@hrsa.gov. Upon receipt of a paper application, the Grants Application Center will mail an acknowledgment of receipt to the applicant organization's Program Director.

HRSA encourages applicants to submit applications on-line. To register and/or log-in to prepare your application, go to https://grants.hrsa.gov/webexternal/login.asp. For assistance in using the on-line application system, call 877-GO4-HRSA (877-464-4772) between 8:30 a.m. to 5:30 p.m. ET or e-mail callcenter@hrsa.gov.

When available, application guidance and the required form for the Community-Based Abstinence Education Grant Program may be downloaded in either Word or Adobe Acrobat format (.pdf) from the HRSA homepage at http://www.hrsa.gov/grants/preview/.

Applicants should note that HRSA is currently accepting grant applications online. Please refer to the HRSA grants schedule at http://www.hrsa.gov/grants.htm for more information. The automated application process should be faster, easier and better for applicants and for HRSA. We encourage you to take advantage of this new option. Applicants will be notified through the same channels that currently announce the availability of downloadable and paper application materials, including notices on HRSA Web sites and e-mail communications. Once the automated system is in place, applications can be submitted on-line and applicants will receive an electronic confirmation of the submission. Applicants will need to print the face page, sign it, and submit it to the HRSA Grants Application Center, 901 Russell Avenue, Suite 450, Gaithersburg, MD 20879; telephone 1-877-477-2123.

Beginning October 1, 2003, all applicant organizations are required to have a Data Universal Numbering System (DUNS) number in order to apply for a grant from the Federal Government. The DUNS number is a unique nine-character identification number provided by the commercial company, Dun and Bradstreet. There is no charge to obtain a DUNS number. Information about obtaining a DUNS can be found at http://www.hrsa.gov/grants/duns.htm or call 1-866-705-5711. Please include the DUNS number next to the OMB approval number on the application face page. Applications will not be reviewed without a DUNS number.

Additionally, the applicant organization will be required to register with the Federal Government's Central Contractor Registry (CCR) in order to do business with the Federal Government, including electronic. Information about registering with the CCR can be found at http://www.hrsa.gov/grants/ccr.htm.

FOR FURTHER INFORMATION CONTACT: Donna Hutten, 301-443-5839 (for questions specific to project activities of the program, program objectives, or the Letter of Intent described above); and Pamela Bell, 301-443-3504 (for grants policy, budgetary, and business questions).

SUPPLEMENTARY INFORMATION: Abstinence-only education programs are one way to educate young people and create an environment within communities that support teen decisions to postpone sexual activity. Between 1991 and 2001, the prevalence of sexual experience decreased 16 percent among high school students (CDC, MMWR, September 27, 2002). In 2001, 45.6 percent of high school students reported having had sexual intercourse and 33.4 percent reported having had sexual intercourse within the previous three months ((CDC, MMWR, June 28, 2002). There are some indications that early sexual intercourse by adolescents can have negative effects on social and psychological development. Research shows that teen pregnancy is linked to a list of risk factors similar to those for other problem behaviors of adolescence, such as alcohol and drug use, violence, delinquency, and school drop-out. Teen parenting is associated with the lack of high school completion and the initiation of a cycle of poverty for mothers. The Department of Health and Human Services established the reduction of teen pregnancies as a priority goal in its 1997 strategic plan. Based on preliminary U.S. birth data for 2002, birth rates for teenagers have continued their steady decline. Overall, the teen birth rate has declined 28 percent since 1990. The birth rates for teenagers 15-17 years and 18-19 years have declined 38 and 18 percent, respectively since 1990 (CDC, NCHS, Vital Statistics Report, June 25, 2003).

Consistent with other SPRANS grant programs, MCHB encourages coordination and collaboration between the State agencies administering a Section 510 abstinence education grant and community-based organizations applying for a SPRANS Community-Based Abstinence Education Project grant. Such coordination and collaboration is considered beneficial in promoting complementary efforts between State and community agencies and advancing maternal and child health. MCHB also encourages collaboration among Federal agencies with an interest in abstinence-only education programs, such as ACF and OPA.

Projects funded through the SPRANS Community-Based Abstinence Education Grant Program share a common definition of “abstinence education” with the Section 510-funded State programs. For purposes of both programs (as well as abstinence education programs funded under the Title XX Adolescent Family Life program), the term “abstinence education” means “an educational or motivational program which—

(A) has as its exclusive purpose, teaching the social, psychological, and health gains to be realized by abstaining from sexual activity;

(B) teaches abstinence from sexual activity outside marriage as the expected standard for all school age children;

(C) teaches that abstinence from sexual activity is the only certain way to avoid out-of-wedlock pregnancy, sexually transmitted diseases, and other associated health problems;

(D) teaches that a mutually faithful monogamous relationship in the context of marriage is the expected standard of human sexual activity;

(E) teaches that sexual activity outside of the context of marriage is likely to have harmful psychological and physical effects;

(F) teaches that bearing children out-of-wedlock is likely to have harmful consequences for the child, the child's parents, and society;

(G) teaches young people how to reject sexual advances and how alcohol and drug use increases vulnerability to sexual advances; and

(H) teaches the importance of attaining self-sufficiency before engaging in sexual activity.”

Curriculum developed or selected for implementation in the SPRANS Community-Based Abstinence Education Grants Program must address all eight elements of the Section 510 abstinence education definition and may not be inconsistent with any aspect of that definition.

Authorization: Section 501(a)(2) of the Social Security Act, 42 U.S.C. 701(a)(2).

Purpose: The purpose of the SPRANS Community-Based Abstinence Education Grant Program is to provide support to public and private entities for the development and implementation of abstinence education programs for adolescents, ages 12 through 18. This program funds the planning and implementation of community-based, abstinence-only educational interventions designed to reduce the proportion of adolescents who have engaged in premarital sexual activity, including but not limited to sexual intercourse; reduce the incidence of out-of-wedlock pregnancies among adolescents; and reduce the incidence of sexually transmitted diseases among adolescents.

Specific objectives for the SPRANS Community-Based Abstinence Education planning and implementation grants are to:

• Support programmatic efforts that foster the development of abstinence-only education for adolescents, ages 12 through 18, in communities across the country.

• Develop and implement abstinence-only programs that target the prevention of teenage pregnancy and premature sexual activity.

• Develop abstinence education approaches that are culturally sensitive and age-appropriate to meet the needs of a diverse audience of adolescents, ages 12 through 18.

• Implement curriculum-based community education programs that promote abstinence decisions to adolescents, ages 12 through 18.

The SPRANS Community-Based Abstinence Education Project Grants Program is complementary to the Title V “Section 510” Abstinence Education Grant Program. Activities funded under the SPRANS Community-Based Abstinence Education Project Grants should enhance the State grantees' efforts to achieve performance goals and objectives established for the existing Section 510 projects in accordance with the requirements of the “Government Performance and Results Act (GPRA) of 1993” (Public Law 103-62). This Act requires the establishment of measurable goals for Federal programs that can be reported as part of the budgetary process, thus linking funding decisions with performance. While SPRANS Community-Based Abstinence Education Program grantees are not responsible for establishing individual program performance targets, grantees are expected to collect and annually report program data that address the six program performance measures presented in Figure 1. This data collection and reporting is essential to the Agency's efforts to assess program-wide performance and progress towards achieving the performance measure objectives.

Figure 1.—SPRANS Community-Based Abstinence Education Grant Program Performance Measures

1. Proportion of program participants who successfully complete or remain enrolled in an abstinence-only education program.

2. Proportion of adolescents who understand that abstinence from sexual activity is the only certain way to avoid out-of-wedlock pregnancy and sexually transmitted disease.

3. Proportion of adolescents who indicate an understanding of the social, psychological and health gains to be realized by abstaining from premarital sexual activity.

4. Proportion of participants who report they have refusal or assertiveness skills necessary to resist sexual urges and advances.

5. Proportion of youth who commit to abstain from sexual activity until marriage.

6. Proportion of participants who intend to avoid situations and risk behaviors, such as drug use and alcohol consumption, which make them more vulnerable to sexual advances and urges.

Each SPRANS Abstinence Education grantee will be required to submit an Annual Progress Summary on its activities, including a narrative discussion of the project's progress toward achieving its goals and objectives, an unduplicated count of clients served, total number of client encounters, a list of the communities served, and a description of the type of project activities being implemented.

Applications for SPRANS Community-Based Abstinence Education implementation grants are required to include a data collection plan that addresses the specified performance measures. In the Annual Progress Summary, implementation grantees will document program data for each performance measure. Further information on reporting requirements for this program and instructions regarding application requirements are included in the Program Guidance.

Curriculum developed or selected for implementation in the SPRANS Community-Based Abstinence Education Grants Program must address all eight elements of the Section 510 abstinence education definition and may not be inconsistent with any element of that definition.

Applicants are required to complete a Curriculum Summary form for every proposed curriculum, which includes documentation that the curriculum is responsive to and consistent with each of the eight elements of the section 510 abstinence education definition. Applicants are required to describe any proposed modifications to the curriculum(a) to address areas of non-compliance. Consistent with other SPRANS programs, consultation and collaboration between the SPRANS Community-Based Abstinence Education grantees and State section 510 grantees are encouraged throughout the life of the project.

Applicants should be aware that SPRANS Community-Based Abstinence Education Project grantees and their contractors/sub-grantees may not expend Federal funds for sectarian instruction, worship, prayer, or proselytization.

Eligibility: Under SPRANS project grant regulations at 42 CFR part 51a.3, any public or private entity, including an Indian tribe or tribal organization (as defined at 25 U.S.C. 450b), is eligible to apply for grants covered by this announcement. State agencies responsible for the administration of the Section 510 Abstinence Education Grant, non-profit organizations and other community-based organizations, including faith-based organizations, are eligible to apply for funding under a SPRANS Community-Based Abstinence Education Project Grant. Projects must clearly and consistently focus on the designated definition of “abstinence education” and applicants must agree not to provide a participating adolescent any other education regarding sexual conduct in the same setting.

Funding Level/Project Period: Contingent on available funding, approximately $33 million will be awarded to support up to 70 new three-year implementation grants in FY 2004, with awards ranging from $250,000 to $800,000 per year. The project period consists of three budget periods, each generally of one year duration. Continuation of any project from one budget period to the next is subject to satisfactory performance and availability of funds.

Review Criteria: The following are generic review criteria applicable to all MCHB programs:

(1) The extent to which the project will contribute to the advancement of maternal and child health and/or improvement of the health of children with special health care needs;

(2) The extent to which the project is responsive to policy concerns applicable to MCH grants and to program objectives, requirements, priorities and/or review criteria for specific project categories, as published in program announcements or guidance materials;

(3) The extent to which the estimated cost to the Government of the project is reasonable, considering the anticipated results;

(4) The extent to which the project personnel are well qualified by training and/or experience for their roles in the project and the applicant organization has adequate facilities and personnel; and

(5) The extent to which, insofar as practicable, the proposed activities, if well executed, are capable of attaining project objectives.

More specific review criteria used to review and rank applications for the SPRANS Community-Based Abstinence Education grant program are included in the application kit. Applicants should pay strict attention to addressing all the criteria delineated in the application kit program guidance, as they are the basis upon which their applications will be judged.

Special consideration will be given to entities in local communities which demonstrate a strong record of support for abstinence education among adolescents. In addition, previous SPRANS Community-Based Abstinence Education grantees will receive this special consideration.

To ensure that there is a geographic distribution of grantees, special consideration may be given to highly ranked applications in States that do not currently have a funded SPRANS Community-Based Abstinence Education grant.

Public Health System Reporting Requirements: This program is subject to the Public Health System Reporting Requirements (approved under OMB No. 0937-0195). Under these requirements, the community-based nongovernmental applicant must prepare and submit a Public Health System Impact Statement (PHSIS). The PHSIS is intended to provide information to State and local health officials to keep them apprised of proposed health services grant applications submitted by community-based nongovernmental organizations within their jurisdictions.

Community-based nongovernmental applicants are required to submit the following information to the head of the appropriate State and local health agencies in the area(s) to be impacted no later than the Federal application receipt due date:

(a) A copy of the face page of the application (SF 424).

(b) A summary of the project (PHSIS), not to exceed one page, which provides:

(1) A description of the population to be served.

(2) A summary of the services to be provided.

(3) A description of the coordination planned with the appropriate State and local health agencies.

It is also permissible to substitute the Project Abstract in place of the PHSIS.

Paperwork Reduction Act of 1995: Data collection requirements have been approved by the Office of Management and Budget (OMB) and are in effect, as required under the Paperwork Reduction Act of 1995 (OMB No. 0915-0272).

Executive Order 12372: The MCH Federal Set-Aside program has been determined to not be a program which is subject to the provisions of Executive Order 12372 concerning intergovernmental review of Federal programs.

Dated: November 28, 2003.
Elizabeth M. Duke,
Administrator.

[FR Doc. 03-30597 Filed 12-5-03; 12:05 pm]

BILLING CODE 4165-15-P